DEPARTMENT OF HOMELAND SECURITY

Bureau of Customs and Border Protection

DEPARTMENT OF THE TREASURY

19 CFR Part 12

[CBP Dec. 04-08]

RIN 1505-AB50

Import Restrictions Imposed on Archaeological Material Originating in Honduras

AGENCY: Customs and Border Protection, Homeland Security.

ACTION: Final rule.

SUMMARY: This document amends the Customs and Border Protection (CBP) Regulations to reflect the imposition of import restrictions on certain archaeological material originating in the Republic of Honduras (Honduras). These restrictions are being imposed pursuant to an agreement between the United States and Honduras that has been entered into under the authority of the Convention on Cultural Property Implementation Act in accordance with the United Nations Educational, Scientific and Cultural Organization (UNESCO) Convention on the Means of Prohibiting and Preventing the Illicit Import, Export and Transfer of Ownership of Cultural Property. The document amends the CBP Regulations by adding Honduras to the list of countries for which an agreement has been entered into for imposing import restrictions. The document also contains the Designated List of Pre-Colombian Archaeological Material from Honduras that describes the types of articles to which the restrictions apply.

EFFECTIVE DATE: March 16, 2004.

FOR FURTHER INFORMATION CONTACT: (Legal Aspects) Joseph Howard, Intellectual Property Rights Branch (202) 572-8701; (Operational Aspects) Michael Craig, Trade Compliance and Facilitation (202) 927-0370.

SUPPLEMENTARY INFORMATION:

Background

The value of cultural property, whether archaeological or ethnological in nature, is immeasurable. Such items often constitute the very essence of a society and convey important information concerning a people's origin, history, and traditional setting. The importance and popularity of such items regrettably make them targets of theft, encourage clandestine looting of archaeological sites, and result in their illegal export and import.

The United States shares in the international concern for the need to protect endangered cultural property. The appearance in the United States of stolen or illegally exported artifacts from other countries where there has been pillage has, on occasion, strained our foreign and cultural relations. This situation, combined with the concerns of museum, archaeological, and scholarly communities, was recognized by the President and Congress. It became apparent that it was in the national interest for the United States to join with other countries to control illegal trafficking of such articles in international commerce.

The United States joined international efforts and actively participated in deliberations resulting in the 1970 UNESCO Convention on the Means of Prohibiting and Preventing the Illicit Import, Export and Transfer of Ownership of Cultural Property (823 U.N.T.S. 231 (1972)). U.S. acceptance of the 1970 UNESCO Convention was codified into U.S. law as the “Convention on Cultural Property Implementation Act” (Pub. L. 97-446, 19 U.S.C. 2601 et seq.) (“the Act”). This was done to promote U.S. leadership in achieving greater international cooperation towards preserving cultural treasures that are of importance to the nations from where they originate and contribute to greater international understanding of mankind's common heritage.

During the past several years, import restrictions have been imposed on archaeological and ethnological artifacts/materials of a number of signatory nations. These restrictions have been imposed as a result of requests for protection received from those nations, as well as pursuant to bilateral agreements between the United States and other countries. More information on import restrictions can be found on the International Cultural Property Protection Web site (http://exchanges.state.gov/education/culprop).

Import restrictions are now being imposed on certain archaeological materials from the Republic of Honduras (Honduras).

Determinations

Under 19 U.S.C. 2602(a)(1), the United States must make certain determinations before entering into an agreement to impose import restrictions under 19 U.S.C. 2602(a)(2). On July 28, 2003, the Assistant Secretary of State for Educational and Cultural Affairs made the determinations required under the statute with respect to certain archaeological materials originating in Honduras that are described in the designated list set forth further below in this document, including the following: (1) That the unique cultural patrimony of Honduras is in jeopardy from the pillage of these archaeological materials; (2) that Honduras has taken measures consistent with the Convention to protect its cultural patrimony; (3) that import restrictions imposed by the United States would be of substantial benefit in deterring a serious situation of pillage and remedies less drastic are not available; and (4) that the application of import restrictions is consistent with the general interests of the international community in the interchange of the designated archaeological materials among nations for scientific, cultural, and educational purposes.

The Agreement

On March 12, 2004, the United States and Honduras entered into a bilateral agreement (the Agreement) pursuant to the provisions of 19 U.S.C. 2602(a)(2) covering certain archaeological materials representing its pre-Colombian cultural heritage. Dating from approximately 1200 B.C. to approximately 1500 A.D., these materials include, but are not limited to, objects of ceramic, metal, stone, shell, and animal bone representing, among others, the Maya, Chorti Maya, Lenca, Jicaque, and Pipil cultures.

Restrictions and Amendment to the Regulations

In accordance with the Agreement, import restrictions are now being imposed on these archaeological materials from Honduras. Importation of these materials, described in the designated list below, are subject to the restrictions of 19 U.S.C. 2606 and § 12.104g(a) of the Customs and Border Protection (CBP) Regulations (19 CFR 12.104g(a)) and will be restricted from entry into the United States unless the conditions set forth in 19 U.S.C. 2606 and § 12.104c of the regulations (19 CFR 12.104c) are met. CBP is amending § 12.104g(a) of the CBP Regulations (19 CFR 12.104g(a)) to indicate that these import restrictions have been imposed.

Material Encompassed in Import Restrictions

The bilateral agreement between Honduras and the United States covers the categories of artifacts described in a Designated List of Pre-Colombian Archaeological Material from Honduras that is set forth below. (Regarding parenthetical references to authors in the list below, see bibliography immediately after the list.)

Designated List of Pre-Colombian Archaeological Material From Honduras

I. Ceramic

Materials made from ceramic (e.g., terracotta/fired clay) include a full range of surface treatments and appendages on various shapes of vessels, lids, figurines, and other ceramic objects (e.g., tools). Decorative techniques used on these materials include, but are not limited to, fluting, dentate-stamping, incised designs, modeled sculpting, polishing/burning, differentially fired areas, and polychrome, bichrome and/or monochrome designs of human and animal figures, mythological scenes and/or geometric motifs. Vessels and figurines may include sculpted and/or applique appendages, such as handles, knobs, faces, fillets, and tripod, quadruped, or ring supports.

Examples include, but are not limited to, polychromes (e.g., Copador, lxcanrio, Gualpopa, Ejar, Cancique and other Copan styles, Ulu-Yojoa (e.g., Red, Maroon, Black, and Tenampua groups), Chichicaste, Fiopo, Las Flores, Sulaco, Chameleon, Naco, and Bay Island), incised and punctuated designs (e.g., Selin, Gualijoquito, and Escondido groups), Usulutan styles, Mammiform vessels, monochromes (e.g., Cuymal, Limon, Higuerito, Talgua), incense burners (Coner ceramics), Yaba-ding-ding, Playa de los Muertos, Olmec style, and Formative period pottery. Ceramics may also have post-fire pigment and/or stucco.

For reference, please consult the following: Chapters in Henderson and Beaudry-Corbett 1993; Baudez 1983; Baudez and Bequelin 1973; Beaudry 1984; Canby 1949, 1951; Fash 1991; Glass 1966; Gordon 1898; Healy 1984; Henderson 1997; Henderson et al 1979; Hirth, Kennedy, and Cliff 1989; Joyce 1985, 1987, 1991, 1993a, 1993b; Joyce and Henderson 2001; Longyear 1952; Robinson 1978; papers in Robinson 1987; Stone 1957, 1941; Strong 1935; Strong, Kidder, and Paul 1938; Urban and Schortman 1988; Veil 1978, 1983, 1993; Willey 1988; Willey et al. 1994; Wonderley 1987; Yde 1938.

A. Ceremonial Vessels

1. Cylinders

2. Bowls

3. Dishes and plates

4. Jars

B. Common Vessels

1. Cylindrical vessels

2. Bowls

3. Dishes and plates

4. Jars

C. Special Forms

1. Drums—polychrome painted and plain

2. Figurines—human and animal forms

3. Whistles—human and animal forms

4. Rattles—human and animal forms

5. Miniature vessels

6. Stamps and seals—engraved geometric designs, various sizes and shapes

7. Effigy vessels—in human or animal form

8. Incense burners—elaborate painted, applied and modeled decoration in form of human figures

9. Architectural elements

II. Stone/Stucco (marble, jade, obsidian, flint, alabaster/calcite, limestone, slate, and other, including stucco materials)

The range of stone materials includes, but is not limited to, sculpture, vessels, figurines, masks, jewelry, stelae, tools, and weapons.

For reference, please consult the following: Baudez 1983, 1994; Digby 1972; Doonan 1996; Garber et al. 1993; Gordon 1898, 1920, 1921; Hirth 1988; Hirth and Hirth 1993; Joyce and Henderson 2001; Henderson 1992, 1997; Luke 2002; Luke et al. 2003; Stone 1938, 1941, 1957, 1972, 1977; Strong, Kidder and Paul 1938.

A. Figurines—human and animal

B. Masks—incised decoration and inlaid with shell, human and animal faces

C. Jewelry—various shapes and sizes

1. Pendants

2. Ear spools

3. Necklaces

4. Pectoral

D. Stelae, Ritual Objects, Architectural Elements, Petroglyphs—Carved in low relief with scenes of war, ritual, or political events, portraits of rulers or nobles, often inscribed with glyphic texts. Sometimes covered with stucco and painted. The size of stelae and architectural elements, such as lintels, posts, steps, and decorative building blocks, range from .5 meters to 2.5 meters in height; hachas, yokes, and other carved ritual objects are under 1 meter in length or height but vary in size.

E. Tools and Weapons

1. Arrowheads

2. Axes, adzes, celts

3. Blades

4. Chisels

5. Spearpoints

6. Eccentric shapes

7. Grinding stones (manos and metates)

8. Maceheads

F. Vessels and Containers

1. Bowls

2. Plates/Dishes

3. Vases

III. Metal (gold, silver, or other)

These objects are cast or beaten into the desired form, decorated with engraving, inlay, punctured design, or attachments. Often in human or stylized animal forms (for examples, consult: Healy 1984; Stone 1941, 1957, 1972, 1977).

A. Jewelry.—various shapes and sizes

1. Necklaces

2. Bracelets

3. Disks

4. Ear spools

5. Pendants

6. Pectorals

B. Figurines

C. Masks

D. Disks

E. Axes

F. Bells

IV. Shell

These objects are worked and un-worked and include, but are not limited to, conch, snail, spiny oyster, sting-ray, and sea urchin spines. Shell may be decorated with cinnabar and incised lines, sometimes with inlaid jade (for examples, consult: Baudez 1983; Fash 1991).

A. Figurines—human and animal

B. Jewelry—various shapes and sizes

1. Necklaces

2. Bracelets

3. Disks

4. Ear spools

5. Pendants

C. Natural Forms—often with incised designs, various shapes and sizes

V. Bone

These objects are carved or incised with geometric and animal designs and glyphs (for examples, consult: Baudez 1983; Coggins 1988; Fash 1991).

A. Tools—various sizes

1. Needles

2. Scrapers

B. Jewelry—various shapes and sizes

1. Pendants

2. Beads

3. Ear spools

Bibliography

Baudez, Claude F. (ed) 1983 Introduccíon a la Arqueología de Copan, 3 volumes. Secretaria de Estado en el Despacho de Cultura y Turismo, Tegucigalpa, Honduras.

1994 Maya Sculpture of Copan: The Iconography. University of Oklahoma Press, Norman, OK.

Baudez, Claude F. and Pierre Becquelin 1973 Archéologie de los Naranjos, Honduras. Etudes Mésoaméricaines 2. Mission Archéologique et Ethnologique Francaise au Mexique, Mexico City, Mexico.

Beaudry, Marilyn P. 1984 Ceramic Production and Distribution in the Southeastern Maya Periphery: Late Classic Painted Serving Vessels. BAR International Series 203. British Archaeological Reports, Oxford, UK.

Canby, Joel S. 1951 Possible Chronological Implications of the Long Ceramic Sequence Recovered at Yarumela, Spanish Honduras. In Proceedings of the Twentyninth International Congress of Americanists, vol. 1, pp. 79-85. University of Chicago Press, Chicago, IL.

1949 Excavations at Yarumela, Spanish Honduras. Doctoral dissertation, Department of Anthropology, Harvard University, Cambridge, MA.

Coggins, Clemency 1988 On the Historical Significance of Decorated Ceramics at Copán and Quiriguá and Related Classic Maya Sites. In Southeast Classic Maya Zone, E. H. Boone and G. R. Willey (eds.), pp. 95-123. Smithsonian Institution Press, Washington, DC.

Digby, Adrian 1972 Maya Jades. British Museum, London, UK.

Doonan, William F. 1996 The Artifacts of Group 10L2, Copán, Honduras: Variation in Material Culture and Behavior in a Royal Residential Compound. Doctoral dissertation, Department of Anthropology, Tulane University, New Orleans, LA.

Fash, William L., Jr. 1991 Scribes, Warriors and Kings: The City of Copán and the Ancient Maya. Thames and Hudson, London, UK.

Glass, John B. 1966 Archaeological Survey of Western Honduras. In Handbook of Middle American Indians, Vol. 4, Robert Wauchope, Gordon F. Ekholm, and Gordon R. Willey (eds.), pp. 157-79. University of Texas Press, Austin, TX.

Garber, James F., David C. Grove, Kenneth G. Hirth, and John W. Hoopes 1993 Jade Use in Portions of Mexico and Central America. In Precolumbian Jade, F. Lange (ed.), pp. 211-31. University of Utah Press, Salt Lake City, UT.

Gordon, G. B. 1921 The Ulúa Marble Vases. The Museum Journal 12:53-74.

1920 A Marble Vase from the Ulúa River, Honduras. Art and Archaeology 9: 141-45.

1898 Researches in the Uloa Valley, Honduras. Peabody Museum Memoirs 1(4). Harvard University, Cambridge, MA.

Healy, Paul 1984 The Archaeology of Honduras. In The Archaeology of Lower Central America, F. W. Lange and D. Z. Stone (eds.), pp. 113-64. University of New Mexico Press, Albuquerque, NM.

Henderson, John S. 1997 World of the Ancient Maya, 2nd ed. Cornell University Press, Ithaca, NY.

1992 Elites and Ethnicity along the Southeastern Fringe of Mesoamerica. In Mesoamerican Elites: An Archaeological Assessment, D. Z. Chase and A. F. Chase (eds.), pp. 155-68. University of Oklahoma Press, Norman, OK.

Henderson, John S. and Marilyn Beaudry Corbett (eds.) 1993 Pottery of Prehistoric Honduras. Institute of Archaeology, Monograph 35. University of California, Los Angeles, CA.

Henderson, John S., Irene Sterns, Anthony Wonderley, and Patricia A. Urban 1979 Archaeological Investigations in the Valle de Naco, Northwestern Honduras: A Preliminary Report. Journal of Field Archaeology 6: 169-92.

Hirth, K., N. Kennedy, and Cliff 1989 Chronology and Ceramic Variability within the El Cajón Region. In Archaeological Research in the el Cajón Region. Vol. 1: Prehistoric Cultural Ecology, K. Hirth, G. Lara Pinto, and G. Haseman (eds.). Memoirs in Latin American Archaeology 1. University of Pittsburgh, Pittsburgh, PA.

1988 The Central Honduras Corridor. In The Southeast Classic Maya Zone, E. H. Boone and G. R. Willey (eds.), pp. 297-334. Dumbarton Oaks, Washington, DC.

Hirth, Kenneth G. and Susan Grant Hirth 1993 Ancient Currency: The Style and Use of Jade and Marble Carvings in Central Honduras. In Precolumbian Jade, F. W. Lange (ed.), pp. 173-90. University of Utah Press, Salt Lake City, UT.

Joyce, Rosemary A. 1993a Appendix A: A Key to Ulúa Polychromes. In Pottery of Prehistoric Honduras, John S. Henderson and Marilyn Beaudry Corbett (eds.), pp. 257-79. Institute of Archaeology University of California, Los Angeles, Monograph 35.

1993b The Construction of the Mesoamerican Frontier and the Mayoid Image of Honduran Polychromes. In Reinterpreting Prehistory of Central America, Mark Miller Graham (ed.), pp. 51-101. University Press of Colorado, Niwot, CO.

1991 Cerro Palenque: Power and Identity on the Maya Periphery. University of Texas Press, Austin, TX.

1987 Intraregional Ceramic Variation and Social Class: Developmental Trajectories of Classic Period Ceramic Complexes from the Ulúa Valley. In Interaction on the Southeast Mesoamerican Frontier: Prehistoric and Historic Honduras and El Salvador. Eugenia J. Robinson (ed.) BAR International Series 327 (ii): 280-303. British Archaeological Reports, Oxford, UK.

1985 Cerro Palenque, Valle de Ulúa Honduras: Terminal Classic Interaction on the Mesoamerican Periphery. Doctoral dissertation, Department of Anthropology, University of Illinois, Urbana, IL.

Joyce, Rosemary A. and John S. Henderson 2001 Beginnings of Village Life in Eastern Mesoamerica. Latin American Antiquity 12 (1): 523.

Longyear, John M., III 1952 Copán Ceramics: A Study of Southeastern Maya Pottery. Publication No. 597. Carnegie Institution of Washington, Washington, DC.

Luke, Christina 2002 Ulúa Marble Vases. Doctoral dissertation, Department of Anthropology, Cornell University, Ithaca, NY.

Luke, Christina, Rosemary A. Joyce, John S. Henderson and Robert H. Tykot 2003 Marble Carving Traditions in Honduras: Formative through Terminal Classic. In ASMOSIA 6, Interdisciplinary Studies on Ancient Stone—Proceedings of the Sixth International Conference of the Association for the Study of Marble and Other Stones in Antiquity, Venice, June 15-18, 2000, L. Lazzarini (ed.), pp. 485-96. Bottega d'Erasmo, Padova, Italy.

Robinson, Eugenia J. 1987 (ed.) Interaction on the Southeast Mesoamerican Frontier: Prehistoric and Historic Honduras and El Salvador. BAR International Series 327. British Archaeological Report, Oxford, UK.

1978 Maya Design Features of Mayoid Vessels of the Ulua Yojoa Polchromes. MA, thesis, Department of Anthropology, Tulane University, New Orleans, LA.

Stone, Doris Z. 1977 Pre-Columbian Man in Costa Rica. Peabody Museum Press, Harvard University, Cambridge, MA.

1972 Pre-Columbian Man Finds Central America. Peabody Museum Press, Harvard University, Cambridge, MA.

1957 The Archaeology of Central and Southern Honduras. Papers of the Peabody Museum of Archaeology and Ethnology 29 (3). Harvard University, Cambridge, MA.

1941 Archaeology of the North Coast of Honduras. Peabody Museum Memoirs 9(l). Harvard University, Cambridge, MA.

1938 Masters in Marble, Middle American Research Series, Pub. 8, Pt. 1. Tulane University, New Orleans, LA.

Strong, Duncan. 1935 Archaeological Investigations in the Bay Islands, Spanish Honduras. Smithsonian Miscellaneous Collection, Vol. 92, No. 14. Smithsonian Institution, Washington, DC.

Strong, William Duncan, Alfred Kidder III, and A.J. Drexel Paul 1938 Preliminary Report on the Smithsonian Institution Harvard University Archaeological Expedition to Northwestern Honduras. Smithsonian Miscellaneous Collections Vol. 97, No. 1. Smithsonian Institution, Washington, DC.

Urban, Patricia A. and Edward M. Schortman 1988 The Southeast Zone Viewed from the East: Lower MotaguaNaco Valleys. In The Southeast Classic Maya Zone, Elizabeth H. Boone and Gordon R. Willey (eds), pp. 223-68. Dumbarton Oaks, Washington, DC.

Viel, René 1993 Evolución de la cerámica de Copán, Honduras. Instituto Hondureño de Antropología e Historia, Tegucigalpa, Honduras.

1983 Evolución de la cerámica e Copán: Resultados preliminaries. In Introducción a la Arqueología de Copán, Honduras, Vol. I, Claude Baudez (ed.), pp. 473-549. SECTUR, Tegucigalpa, Honduras.

1978 Etude de la céramique Ulúa Yojoa Polychrome (NordQuest de Honduras): Essai d' analyse stylistique du Babilonia. Doctoral dissertation, Université René Descartes, Paris, France.

Willey, G. 1988 The Southeast Classic Maya Zone: A Summary. In The Southeast Classic Maya Zone, E.H. Boone and G.R. Willey (eds.), pp. 395-408. Dumbarton Oaks, Washington, DC.

Willey, G., R.M. Levanthal, A. Demarest, and W.L. Fash, Jr. 1994 Ceramics and Artifacts from Excavations in the Copan Residential Zone. Papers of the Peabody Museum of Archaeology and Ethnology, Vol. 80. Harvard University, Cambridge, MA.

Wonderley, Anthony 1987 Imagery in Household Pottery from “La Gran Provincia de Naco”. In Interaction on the Southeast Mesoamerican Frontier: Prehistoric and Historic Honduras and El Salvador, Eugenia J. Robinson (ed.). BAR International Series 327 (ii):304-326. British Archaeological Reports, Oxford, UK.

Yde, Jens 1938 An Archaeological Reconnaissance of Northwestern Honduras: A report of the Work of the Tulane University Danish National Museum Expedition to Central America 1935. Levin and Munksgaard, Copenhagen, Denmark.

CBP Decision 03-24: Delegations of Authority

This amendment to the regulations is being issued in accordance with § 0.1(a)(1) of the CBP Regulations (19 CFR 0.1(a)(1)) as a regulation the subject of which the Secretary of the Treasury has retained the sole authority to approve. Accordingly, the document is signed by the Commissioner of Customs and Border Protection as the delegate of the Department of Homeland Security and the Deputy Assistant Secretary of the Treasury as the delegate of the Secretary of the Treasury to indicate approval. (see CBP Dec. 03-24; 68 FR 51868).

Inapplicability of Notice and Delayed Effective Date

Because the amendment to the CBP Regulations contained in this document imposing import restrictions on the above-listed cultural property of Honduras is being made in response to a bilateral agreement entered into in furtherance of the foreign affairs interests of the United States, pursuant to 5 U.S.C. 553(a)(1), no notice of proposed rulemaking or public procedure is necessary. For the same reason, a delayed effective date is not required pursuant to 5 U.S.C. 553(d)(3).

Regulatory Flexibility Act

Because no notice of proposed rulemaking is required, the provisions of the Regulatory Flexibility Act (5 U.S.C. 601 et seq.) do not apply. Accordingly, this final rule is not subject to the regulatory analysis or other requirements of 5 U.S.C. 603 and 604.

Executive Order 12866

This amendment does not meet the criteria of a “significant regulatory action” as described in E.O. 12866.

Drafting Information

The principal author of this document was Bill Conrad, Regulations Branch, Office of Regulations and Rulings, U.S. Customs and Border Protection. However, personnel from other offices participated in its development.

List of Subjects in 19 CFR Part 12

Customs duties and inspections, Imports, Cultural property.

Amendment to the Regulations

Accordingly, part 12 of the Customs Regulations (19 CFR part 12) is amended as set forth below:

PART 12—SPECIAL CLASSES OF MERCHANDISE

1. The general authority and specific authority citations for part 12, in part, continue to read as follows:

Authority: 5 U.S.C. 301, 19 U.S.C. 66, 1202 (General Note 23, Harmonized Tariff Schedule of the United States (HTSUS)), 1624;

* * * * *

Sections 12.104 through 12.104i also issued under 19 U.S.C. 2612;

* * * * *

2. In § 12.104g, paragraph (a), containing the list of agreements imposing import restrictions on described articles of cultural property of State Parties, is amended by adding Honduras to the list in appropriate alphabetical order as follows:

§ 12.104(g) Specific items or categories designated by agreements or emergency actions.

(a) * * *

State party | Cultural property | Decision No.
* * * * * * *
Honduras | Archaeological Material of Pre-Colombian cultures ranging approximately from 1200 B.C. to 1500 A.D | CBP Dec. 04--08.
* * * * * * *

* * * * *

Robert C. Bonner,
Commissioner, Customs and Border Protection.
Approved: March 12, 2004.
Timothy E. Skud,
Deputy Assistant Secretary of the Treasury.

[FR Doc. 04-6017 Filed 3-12-04; 2:31 pm]

BILLING CODE 4820-02-M